DEPARTMENT OF COMMERCE

National Oceanic and Atmospheric Administration

[I.D. 061901E]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Scallop Advisory Panel, Scallop Oversight Committee and Groundfish Oversight Committee in July, 2001 to consider actions affecting New England fisheries in the exclusive economic zone (EEZ). Recommendations from these groups will be brought to the full Council for formal consideration and action, if appropriate.

DATES: The meetings will be held on July 9-11, 2001. See SUPPLEMENTARY INFORMATION for specific dates and times.

ADDRESSES: The meetings will be held in Warwick, RI and Wakefield, MA. See SUPPLEMENTARY INFORMATION for specific locations.

FURTHER INFORMATION CONTACT: Paul J. Howard, Executive Director, New England Fishery Management Council; (978) 465-0492.

SUPPLEMENTARY INFORMATION

Meeting Dates and Agendas

Monday, July 9, 2001, 10 a.m.—Scallop Advisory Panel Meeting.

Location: Radisson Airport Hotel, 2081 Post Road, Warwick, RI 02886; telephone: (401) 732-3000.

The Advisory Panel will review the Plan Development Team, (PDT) recommendations for Amendment 10 to the Atlantic Sea Scallop Fishery Management Plan (FMP). They will report to the Scallop Oversight Committee at their meeting on July 10-11, 2001 and provide advice on these recommendations for management alternatives or make other recommendations.

Monday, July 9, 2001, 9:30 a.m.—Groundfish Oversight Committee Meeting.

Location: Sheraton Colonial Hotel, One Audubon Road Wakefield, MA 01880; telephone: (781) 245-9300.

The Oversight Committee will meet to consider management options for Framework Adjustment 36 to the Northeast Multispecies FMP. Framework 36 was initiated by the Council in January, 2001, to address the following issues: reducing excessive regulatory discards of Gulf of Maine cod resulting from a trip limit, meeting the fishing mortality objectives for Gulf of Maine cod, extending and/or adjusting the Western Gulf of Maine closure (currently scheduled to open May 1, 2002), considering allowing access to groundfish closures by tuna purse seine vessels, and expanding the area for the northern shrimp exempted fishery. At this meeting, the Committee will identify alternative management measures to meet these objectives. They may also consider recommending to the full Council that other objectives be addressed by the framework. The recommendations of the Committee will be considered by the Council at the July 24-26, 2001 Council meeting. While the meeting will focus on Framework 36, if time permits, the Committee may consider issues related to the ongoing development of Amendment 13 and may plan how to address remaining issues for this amendment.

Tuesday, July 10, 2001 at 9:30 a.m. and Wednesday, July 11, 2001 at 8:30 a.m.—Scallop Oversight Committee Meeting.

Location: Radisson Airport Hotel, 2081 Post Road, Warwick, RI 02886; telephone: (401) 732-3000.

The Scallop Oversight Committee will review the package of management alternatives developed by the PDT, consider advice from the July 9, 2001 Advisory Panel meeting, and advise the Council on which alternatives should be further analyzed and described in the Amendment 10 public hearing document. The oversight committee’s recommendations may be that some alternatives need to be changed or omitted from the developing Amendment 10 document. The committee will also discuss consideration of a control date for vessels that target sea scallops while not on a scallop day-at-sea; a control date is needed because the Council is considering whether to limit general category vessel access in Amendment 10; (the control date could apply to any vessel with or without a general category permit and/or to vessels that have a limited access scallop permit and that fish for sea scallops while not on a day-at-sea). The Advisory Panel or Oversight Committee may also recommend adding alternatives to Amendment 10 that were not proposed by the Plan Development Team. The formal Draft Supplemental Environmental Impact Statement (DSEIS) and public hearing document will be reviewed and approved by the Council at the November 6-8 meeting, before public hearings on the proposals.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: June 20, 2001.
Bruce C. Morehead,
Acting Director, Office of Sustainable Fisheries, National Marine Fisheries Service.

[FR Doc. 01-15896 Filed 6-22-01; 8:45 am]

BILLING CODE 3510-22-S